ENVIRONMENTAL PROTECTION AGENCY

[FRL-6563-6]

Proposed Past Cost Settlement Pursuant to the Comprehensive Environmental Response, Compensation, and Liability Act (CERCLA), as Amended by the Superfund Amendments and Reauthorization Act—Golden, CO

AGENCY: Environmental Protection Agency.

ACTION: Notice and request for public comment.

SUMMARY: In accordance with the requirements in section 122(i)(1) of the Comprehensive Environmental Response, Compensation and Liability Act (CERCLA), notice is hereby given of a proposed past cost settlement under section 122(h), concerning the Colorado School of Mines Research Institute site in Golden, Colorado (Site). The proposed Administrative Order on Consent (AOC) requires several Potentially Responsible Parties (PRPs), including Federal PRPs to pay an aggregate total of $871,000 to the United States Environmental Protection Agency (EPA) related to response actions taken at the Site.

DATES: Comments must be submitted by April 24, 2000.

ADDRESSES: The proposed settlement is available for public inspection at the EPA Superfund Record Center, 999 18th Street, 5th Floor, North Tower, Denver, Colorado. Comments should be addressed to Kelcey Land, Enforcement Specialist, (8ENF-T), U.S. Environmental Protection Agency, 999 18th Street, Suite 500, Denver, Colorado, 80202-2405, and should reference the Colorado School of Mines Research Institute Past Cost Settlement (EPA Docket No. CERCLA-8-2000-7).

FOR FURTHER INFORMATION CONTACT: Kelcey Land, Enforcement Specialist, at (303) 312-6393.

SUPPLEMENTARY INFORMATION: Notice of section 122(h) past cost settlement: In accordance with section 122(i)(1) of CERCLA, notice is hereby given that the terms of an Administrative Order on Consent (AOC) has been agreed to by the following parties:

The PRPs include: ASARCO Inc., BP America, Inc., Cotter Corporation, Cyprus Amax Minerals Company, El Paso Natural Gas Company, Elf Aquitane, Inc. on behalf of several Texasgulf companies, ExxonMobil Coal and Minerals Company, N.L. Industries, Inc., Inspiration Consolidated Copper Company, Phelps Dodge Corporation, Terra Industries, Inc., and Western Nuclear, Inc. as well as several affiliates of these companies, all of whom are listed in Attachment A of the agreement. The private PRPs paid a total of $480,993.48.

Several federal PRPs were also identified at the site, however only the Bureau of Mines is a signatory to the agreement. The United States paid a total of $390,006.52 in settlement of the claims against all federal entities.

By the terms of the proposed AOC, these parties will together pay $871,000 to the Hazardous Substance Superfund. This payment along with the $1.056 million reimbursement via the de minimis settlements constitutes approximately a 93% settlement of all EPA’s costs at the site.

In exchange for payment, EPA will provide the settling parties with a limited covenant not to sue for liability under section 107(a) of CERCLA, which includes liability for EPA's past costs and contribution protection for EPA's past costs and other past costs incurred before and including May 31, 1997. The covenants and contribution protection also extends to Colorado School of Mines (CSM), Colorado School of Mines Research Institute (CSMRI), and the State of Colorado who are also signatories to the agreement. The only other past costs known at this time were incurred by the signatories to the agreement.

For a period of thirty (30) days from the date of this publication, the public may submit comments to EPA relating to this proposed past cost settlement.

A copy of the proposed AOC may be obtained from Kelcey Land (8ENF-T), U.S. Environmental Protection Agency, Region VIII, 999 18th Street, Suite 5000, Colorado 80202-2405, (303) 312-6393. Additional background information relating to the proposed cost settlement is available for review at the Superfund Records Center at the above address.

It is So Agreed.

Jack W. McGraw,
Acting Regional Administrator, Region VIII.

[FR Doc. 00-7328 Filed 3-23-00; 8:45 am]

BILLING CODE 6560-50-U